DEPARTMENT OF TRANSPORTATION

Federal Aviation Administration

[Docket No: FAA-2013-0649]

Aviation Rulemaking Advisory Committee (ARAC) Airman Testing Standards and Training Working Group (ATSTWG)

AGENCY: Federal Aviation Administration (FAA), DOT.

ACTION: Notice of Request for Comment

SUMMARY: This notice announces the availability of additional draft Airman Certification Standards (ACS) documents developed by the ATSTWG for the authorized instructor certificate, the private pilot certificate and the instrument rating. These documents are available for public review, download, and comment.

DATES: Send comments on or before August 23, 2013.

ADDRESSES: Send comments identified by docket number FAA-2013-0649 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at (202) 493-2251.

Privacy: The FAA will post all comments it receives, without change, to http://www.regulations.gov, including any personal information the commenter provides. Using the search function of the docket Web site, anyone can find and read the electronic form of all comments received into any FAA dockets, including the name of the individual sending the comment (or signing the comment for an association, business, labor union, etc.). DOT's complete Privacy Act Statement can be found in the Federal Register published on April 11, 2000 (65 FR 19477-19478), as well as at http://DocketsInfo.dot.gov.

Docket: Background documents or comments received may be read at http://www.regulations.gov at any time. Follow the online instructions for accessing the docket or Docket Operations in Room W12-140 of the West Building Ground Floor at 1200 New Jersey Avenue SE., Washington, DC, between 9 a.m. and 5 p.m., Monday through Friday, except Federal holidays.

FOR FURTHER INFORMATION CONTACT: Van L. Kerns, Manager, Regulatory Support Division, FAA Flight Standards Service, AFS 600, FAA Mike Monroney Aeronautical Center, P.O. Box 25082, Oklahoma City, OK 73125; telephone (405) 954-4431, email van.l.kerns@faa.gov.

SUPPLEMENTARY INFORMATION:

Background

On August 30, 2012, the ARAC Executive Committee accepted the FAA's assignment of a new task arising from recommendations of the Airman Testing Standards and Training Aviation Rulemaking Committee (ARC). The ARC recommended ways to ensure that the FAA's airman testing and training materials better support reduction of fatal general aviation accidents. The new task instructed the ARAC to integrate aeronautical knowledge and flight proficiency requirements for the private pilot and flight instructor certificates and the instrument rating into a single ACS document for each type of certificate and rating; to develop a detailed proposal to realign FAA training handbooks with the ACS documents; and to propose knowledge test item bank questions consistent with the integrated ACS documents and the principles set forth in the ARC's recommendations.

The FAA announced the ARAC's acceptance of this task through a Federal Register Notice published on September 12, 2012 [77 FR 56251]. This Notice described the task elements and solicited participants for the ATSTWG, which subsequently formed and began its work in November 2012.

Consistent with the first part of this tasking, the ATSTWG developed draft ACS documents that align the aeronautical knowledge testing standards with the flight proficiency standards set out in the existing Practical Test Standards (PTS). In addition to supporting the FAA's effort to improve the relevance, reliability, validity, and effectiveness of aeronautical testing and training materials, the draft ACS documents support the FAA's goal of reducing fatal general aviation accidents by incorporating task-specific risk management considerations into each Area of Operation.

The ATSTWG completed its initial work on the ACS for the private pilot certificate and the instrument rating in April, 2013. At the request of the ATSTWG, the FAA made these documents available for public comment through docket number FAA-2013-0316. The comment period for the notice published on April 24, 2013 (78 FR 24289) closed May 24, 2013. Also at the request of the ATSTWG, the FAA reopened the comment period until July 8, 2013.

During these periods, the ATSTWG received more than 300 comments and questions on the draft ACS for the private pilot certificate and the instrument rating. The ATSTWG has used these comments to inform and refine its continuing work on this project, and has consequently asked the FAA to make the revised versions of these documents available for on additional period of public review and comment before it completes its work in September, 2013.

In addition, the ATSTWG has completed its initial draft of the authorized instructor ACS document. The purpose of the authorized instructor ACS is to define the acceptable performance standards for instructional knowledge and skill, including the Fundamentals of Instructing (FOI) concepts listed in 14 CFR part 61. Consistent with its desire for comments to help refine its work, the ATSTWG has asked the FAA to make this document available for public comment as well.

In making this document available, the ATSTWG wishes to note that while the draft authorized instructor ACS follows the overall conceptual framework developed for the private pilot ACS and the instrument rating ACS, its construction reflects fundamental differences between the family of pilot certificates/ratings and the instructor certificate. The core of the authorized instructor ACS addresses practical application of the instructional concepts and techniques presented in the traditional FOI. The authorized instructor ACS uses appendices to define the acceptable standards for knowledge, skill, and risk management in the aeronautical proficiency tasks unique to a particular instructor certificate or rating.

The ATSTWG also wishes to emphasize that the authorized instructor ACS is not intended to be a stand-alone document. Rather, it is intended to be used in conjunction with the pilot certificate level or rating ACS for which the instructor-applicant seeks authorization to provide instruction. Therefore, in addition to mastery of the knowledge and skills defined in the authorized instructor ACS, the instructor-applicant must demonstrate instructional competence for Tasks in the ACS for the appropriate certificate level or rating, to include analyzing and correcting common learner errors.

The ATSTWG continues work to complete its remaining assignments. These include developing a detailed proposal to realign and, as appropriate, streamline and consolidate existing FAA guidance material (e.g., handbooks) with each integrated ACS document; and to propose methodologies to ensure that knowledge test item bank questions are consistent with both the ACS documents and the test question development principles set forth in the ARC's recommendations.

The ACS documents are designed as the foundation for transitioning to a more integrated and systematic approach to airman certification testing and training. To accomplish this objective and achieve its overall safety goals, the ACS documents support the safety management system (SMS) framework. SMS methodology provides a systematic approach to achieving acceptable levels of safety risk. The ATSTWG is constructing ACS, associated guidance, and test item bank question components of the airman certification system around the four functional components of SMS:

• Safety Policy that demonstrates FAA senior management commitment to continually improve safety through enhancements to the airman certification testing and training system; specifically, better integration of the aeronautical knowledge, flight proficiency, and risk management components of the airman certification system;

• Safety Risk Management processes that create a structured means of safety risk management decision making to identify, assess, and determine acceptable level of risk associated with regulatory changes, safety recommendations, or other factors requiring modification of airman testing and training materials;

• Safety Assurance processes which allow increased confidence on the part of industry and FAA stakeholders in risk controls through a continual review of FAA products and the systematic, prompt and appropriate incorporation of changes arising from new regulations, data analysis, and safety recommendations; and

• Safety Promotion framework to support a positive safety culture in the form of training and ongoing engagement with both external stakeholders (e.g., the aviation training industry) and FAA policy divisions.

Time permitting, and given the foundational nature of the ACS documents and their importance in the ongoing evolution of the FAA's airman certification testing and training system, the ATSTWG wishes to make subsequent revised draft ACS documents for the private pilot certificate and the instrument rating, and of its current initial draft of the authorized instructor ACS, available to the public for one additional period of review and comment before it completes its work in September 2013. The ATSTWG would use the comments it receives to complete its work on this project and to develop its final report and recommendations.

Issued in Washington, DC on July 19, 2013.
Lirio Liu,
Designated Federal Officer, Aviation Rulemaking Advisory Committee.

[FR Doc. 2013-17782 Filed 7-23-13; 8:45 am]

BILLING CODE 4910-13-P